FEDERAL COMMUNICATIONS COMMISSION

Open Commission Meeting, Tuesday, January 30, 2018

January 23, 2018.

The Federal Communications Commission will hold an Open Meeting on the subjects listed below on Tuesday, January 30, 2018 which is scheduled to commence at 10:30 a.m. in Room TW-C305, at 445 12th Street SW, Washington, DC.

Item No. | Bureau | Subject
1 | PUBLIC SAFETY & HOMELAND SECURITY | Presentation: The Commission will receive a preliminary report from the Public Safety & Homeland Security Bureau on its investigation into the false emergency alert that occurred in Hawaii on January 13, 2018.
2 | PUBLIC SAFETY & HOMELAND SECURITY | Title: Wireless Emergency Alerts (PS Docket No. 15-91); Amendment of Part 11 of the Commission's Rules Regarding the Emergency Alert System (PS Docket No. 15-94).
|  | Summary: The Commission will consider a Second Report and Order and Second Order on Reconsideration to enhance the effectiveness of Wireless Emergency Alerts, including improving the geographic accuracy of these alerts.
3 | WIRELINE COMPETITION | Title: Connect America Fund (WC Docket No. 10-90); ETC Annual Reports and Certifications (WC Docket No. 14-58); Rural Broadband Experiments (WC Docket No. 14-259); Connect America Fund Phase II Auction (AU Docket No. 17-182).
|  | Summary: The Commission will consider an Order and Order on Reconsideration addressing the remaining issues raised by parties challenging the Commission's orders implementing the Connect America Phase II auction (Auction 903), in which service providers will compete to receive support of up to $1.98 billion to offer voice and broadband service in unserved high-cost areas.
4 | WIRELINE COMPETITION AND WIRELESS TELE-COMMUNICATIONS | Title: Connect America Fund Phase II Auction Scheduled for July 24, 2018 Notice and Filing Requirements and Other Procedures for Auction 903; Connect America Fund Phase II Auction (AU Docket No. 17-182); Connect America Fund (WC Docket No. 10-90).
|  | Summary: The Commission will consider a Public Notice establishing procedures for the Connect America Fund Phase II auction, which will award up to $1.98 billion over 10 years to service providers that commit to offer voice and broadband services to fixed locations in unserved high-cost areas.
5 | WIRELINE COMPETITION AND OFFICE OF MANAGING DIRECTORY | Title: Establishment of the Office of Economics and Analytics (MD Docket No. 18-3).
|  | Summary: The Commission will consider an Order to establish an Office of Economics and Analytics.
6 | MEDIA | Title: Amendment of Section 73.3613 of the Commission's Rules Regarding Filing of Contracts (MB Docket No. 18-4); Modernization of Media Regulation Initiative (MB Docket No. 17-105).
|  | Summary: The Commission will consider a Notice of Proposed Rulemaking proposing to eliminate the requirement that broadcast licensees and permittees routinely submit paper copies of contracts and other documents to the FCC as specified in Section 73.3613 of the Commission's rules.
7 | MEDIA | Title: Modernization of Media Regulation Initiative (MB Docket No. 17-105); Amendment of Parts 27, 54, 73, 74, and 76 of the Commission's Rules to Delete Rules Made Obsolete by the Digital Television Transition.
|  | Summary: The Commission will consider an Order deleting rules made obsolete by the Digital TV transition.
8 | ENFORCEMENT | Title: Enforcement Bureau Action.
|  | Summary: The Commission will consider an enforcement action.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene H. Dortch,
Secretary.

[FR Doc. 2018-02029 Filed 1-31-18; 8:45 am]

BILLING CODE 6712-01-P